DEPARTMENT OF COMMERCE

National Oceanic and Atmospheric Administration

RIN 0648-XA911

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat/MPA/Ecosystem Committee in January 2012 to consider actions affecting New England fisheries in the exclusive economic zone (EEZ). Recommendations from this group will be brought to the full Council for formal consideration and action, if appropriate.

DATES: This meeting will be held on Wednesday, January 25, 2012 at 9:30 a.m.

ADDRESSES: This meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of this meeting is for the Habitat Committee to recommend management alternatives discussed on January 24 for further development and analysis. As compared to the roundtable-style format used on the previous day, this meeting will be conducted as a formal committee meeting.

Agenda items include: (1) Management alternatives related to deep-sea corals, and (2) management options related to adverse effects minimization, including recommendations about research areas. For each topic, staff will review discussion from Day 1, particularly any suggested modifications. The Committee will decide on measures to be forwarded to the Council for analysis in a NEPA document. Coral management will be discussed in the morning and adverse effects management and research areas will be addressed in the afternoon.

The Committee will also receive a presentation about the Muskeget Channel Tidal Energy Project, and may recommend that the Council submit comments on this issue.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 27, 2011.
Tracey L. Thompson,
Acting Director, Office of Sustainable Fisheries, National Marine Fisheries Service.

[FR Doc. 2011-33616 Filed 12-30-11; 8:45 am]

BILLING CODE 3510-22-P